DEPARTMENT OF COMMERCE

International Trade Administration

[A-583-837]

Notice of Final Determination of Sales at Less Than Fair Value: Polyethylene Terephthalate Film, Sheet, and Strip (PET Film) from Taiwan

AGENCY: Import Administration, International Trade Administration, Department of Commerce.

EFFECTIVE DATE: May 20, 2002.

FOR FURTHER INFORMATION CONTACT: Ron Trentham or Tom Futtner at (202) 482-6320 or (202) 482-3814 respectively, AD/CVD Enforcement, Office 4, Group II, Import Administration, Room 1870, International Trade Administration, U.S. Department of Commerce, 14th Street and Constitution Avenue, NW, Washington, DC 20230.

SUPPLEMENTARY INFORMATION:

The Applicable Statute and Regulations

Unless otherwise indicated, all citations to the Tariff Act of 1930, as amended (the Act), are references to the provisions effective January 1, 1995, the effective date of the amendments made to the Act by the Uruguay Round Agreements Act. In addition, unless otherwise indicated, all citations to Department of Commerce (the Department) regulations are to 19 CFR Part 351 (April 2001).

FINAL DETERMINATION:

We determine that polyethylene terephthalate film, sheet, and strip (PET film) from Taiwan are being sold, or are likely to be sold, in the United States at less than fair value (LTFV), as provided in section 735 of the Act. The estimated margin of sales at LTFV is shown in the Suspension of Liquidation section of this notice.

Case History

On December 21, 2001, the Department published the preliminary determination of the antidumping duty investigation of PET film from Taiwan. See Notice of Preliminary Determination of Sales at Less Than Fair Value and Postponement of Final Determination, Polyethylene Terephthalate Film, Sheet, and Strip (PET Film) From Taiwan, 66 FR 65889 (December 21, 2001) (Preliminary Determination). The investigation covers two manufacturers/exporters, Nan Ya Plastics Corporation, Ltd. (Nan Ya), and Shinkong Synthetic Fibers Corporation (Shinkong). The petitioners in this investigation are Dupont Teijin Films, Mitsubishi Polyester Film of America, and Toray Plastics (America) (collectively, the petitioners).

We conducted verification of the questionnaire responses of the respondents, Nan Ya during the weeks of January 28, 2002 and February 8, 2002, and Shinkong during the weeks of February 25, 2002, and March 4, 2002. We gave interested parties an opportunity to comment on our Preliminary Determination and our findings at verification. On April 8, 2002, one respondent, Shinkong, and the petitioners, submitted case briefs. On April 12, 2002, Shinkong and the petitioners submitted rebuttal briefs. Nan Ya submitted its rebuttal brief on April 16, 2002. The Department received requests for a public hearing from both petitioners and Shinkong. A public hearing was held on April 17, 2002.

The Department has conducted this investigation in accordance with section 731 of the Act.

Scope of Investigation

For purposes of these investigations, the products covered are all gauges of raw, pretreated, or primed PET film, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00. HTSUS subheadings are provided for convenience and Customs purposes. The written description of the scope of this proceeding is dispositive.

Period of Investigation

The period of investigation (POI) is April 1, 2000, through March 31, 2001. This period corresponds to the four most recent fiscal quarters prior to the month of the filing of the petition (i.e., May 2001).

Analysis of Comments Received

All issues raised in the case and rebuttal briefs by parties to this proceeding and to which we have responded are listed in the Appendix to this notice and addressed in the “Issues and Decision Memorandum” (Decision Memorandum), dated May 6, 2002, which is hereby adopted by this notice. Parties can find a complete discussion of the issues raised in this investigation and the corresponding recommendations in this public memorandum which is on file in the Central Records Unit, room B-099 (B-099) of the main Department building. In addition, a complete version of the Decision Memorandum can be accessed directly on the Web at http://ia.ita.doc.gov. The paper copy and electronic version of the Decision Memorandum are identical in content.

Changes Since the Preliminary Determination

Based on our findings at verification, and analysis of comments received, we have made adjustments to the preliminary determination calculation methodologies in calculating the final dumping margins in this proceeding. These adjustments are discussed in detail in the Decision Memorandum and are listed below:

Nan Ya

(1) We determined that Nan Ya is affiliated with two of its U.S. customers and that Nan Ya's sales through these customers should be treated as constructed export price sales. See Decision Memorandum at comment 4.

(2) We recalculated home market inventory carrying costs to reflect changes from verification. See Calculation Memorandum of the Final Determination of the Investigation of Nan Ya Plastics Corporation, Ltd. ( May 6, 2002)

(3) We adjusted Nan Ya's reported per-unit cost to attribute a portion of the total cost difference and stop loss expenses attributable to PET film production. See Cost of Production and Constructed Value Calculation Adjustments Memorandum for the Final Determination (May 6, 2002).

4) We increased Na Ya's reported per-unit conversion costs. Id.

Shinkong

(1) We revised home market and U.S. indirect selling expenses to reflect changes from verification. SeeCalculation Memorandum of the Final Determination of the Investigation of Shinkong Synthetic Fibers Corporation (May 6, 2002) (Shinkong's Calculation Memorandum).

(2) We recalculated home market credit expenses to reflect changes from verification. Id.

(3) We recalculated home market inventory carrying costs to reflect changes from verification. Id.

(4) We recalculated the general and administrative (G&A) expense ratio to reflect changes from verification. See Shinkong's Calculation Memo.

(5) We recalculated the interest expense ratio to reflect changes from verification. Id.

(6) We revised the total cost of manufacture (TOTCOM) to reflect changes from verification. See Issues and Decision Memorandum at comment 9. See also Shinkong's Calculation Memorandum.

(7) We recalculated U.S. credit expenses to reflect changes from verification. See Shinkong's Calculation Memorandum.

Verification

As provided in section 782(i) of the Act, we verified the information submitted by the respondents for use in our final determination. We used standard verification procedures including examination of relevant accounting and production records, and original source documents provided by the respondent.

Suspension of Liquidation

Because Nan Ya received a de minimis weighted-average margin in the preliminary determination, but an above de minimis margin in the final determination, pursuant to section 735(c)(1)(B) of the Act, we are instructing the U.S. Customs Service (Customs) to suspend liquidation of all entries of subject merchandise from Nan Ya that are entered, or withdrawn from warehouse, for consumption on or after the date of publication of this final determination in the Federal Register. For Shinkong and all other companies, we are directing Customs to continue to suspend liquidation of entries of subject merchandise entered, or withdrawn from warehouse, for consumption on or after December 21, 2001, the date of publication of the preliminary determination. We will instruct the Customs Service to require a cash deposit or the posting of a bond equal to the weighted-average amount by which the normal value exceeds the U.S. price, as indicated in the chart below. The suspension of liquidation instructions will remain in effect until further notice.

Manufacturer/exporter | Margin (percent)
Nan Ya Plastics Corporation, Ltd. | 2.70
Shinkong Synthetic Fibers ­Corporation | 2.05
All Others | 2.56

ITC Notification

In accordance with section 735(d) of the Act, we have notified the International Trade Commission (ITC) of our determination. As our final determination is affirmative, the ITC will determine, within 45 days, whether these imports are causing material injury, or threat of material injury, to an industry in the United States. If the ITC determines that material injury, or threat of injury does not exist, the proceeding will be terminated and all securities posted will be refunded or canceled. If the ITC determines that such injury does exist, the Department will issue an antidumping duty order directing Customs officials to assess antidumping duties on all imports of the subject merchandise entered or withdrawn from warehouse for consumption on or after the effective date of the suspension of liquidation.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: May 6, 2002
Joseph A. Spetrini,
Acting Assistant Secretaryfor Import Administration.

Appendix Issues in Decision Memorandum

Comments

1. Nan Ya's Yield Ratios

2. Nan Ya's PET Film Productivity

3. Nan Ya's Product-Specific Costs

4. Nan Ya's Relationship With U.S. Customers

5. Nan Ya's Recycled Packing Costs

6. Nan Ya's Sales Quantities

7. Shinkong's Home Market Sales Made to Port

8. Shinkong's Packing Costs

9. Shinkong's Certified Public Accountant (CPA) adjustments

[FR Doc. 02-12575 Filed 5-17-02; 8:45 am]

BILLING CODE 3510-DS-S